DEPARTMENT OF ENERGY

Federal Energy Regulatory Commission

[Docket No. IC03-537-001, FERC-537]

Commission Information Collection Activities, Proposed Collection; Comment Request; Submitted For OMB Review

February 11, 2004.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of October 6, 2003 (68 FR 57679-80), and has made this notation in its submission to OMB.

DATES: Comments on the collection of information are due by March 17, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC03-537-001.

Documents filed electronically via the Internet must be prepared in WordPerfect, MS Word, Portable Document Format, or ASCII format. To file the document, access the Commission's Web site at www.ferc.gov and click on “Make an E-filing,” and then follow the instructions for each screen. First time users will have to establish a user name and password. The Commission will send an automatic acknowledgment to the sender's e-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866)208-3676, or for TTY, contact (202)502-8659.

FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC-537 “Gas Pipeline Certificates: Construction, Acquisition and Abandonment.”

2. Sponsor: Federal Energy Regulatory Commission.

3. Control No.: 1902-0060.

The Commission is now requesting that OMB approve and reinstate with a three-year extension of the expiration date, with no changes to the existing collection. The information filed with the Commission is mandatory.

4. Necessity of the Collection of Information: Submission of the information is necessary to enable the Commission to carry out its responsibilities in implementing the statutory provisions of the Natural Gas Policy Act of 1978 (NGPA), and the Natural Gas Act (NGA). Under the NGA, natural gas pipeline companies must obtain Commission authorization to undertake the construction or extension of any facilities, or to acquire or operate any such facilities, or to acquire or operate any such facilities or extensions in accordance with section 7(c) of the NGA. A natural gas company must also obtain Commission approval under section 7(b) of the NGA prior to abandoning any jurisdictional facility or service. Under the NGPA interstate and intrastate pipelines must obtain authorization for certain transportation arrangements.

The information collected is necessary to certificate interstate pipelines engage the transportation and sale of natural gas, and the construction, acquisition, and operation of facilities to be used in those activities, to authorize the abandonment of facilities and services and to authorize certain NGPA transactions. If a certificate is granted, the natural gas company can construct, acquire, or operate facilities plus engage in transportation or sale of natural gas. Conversely, approval of an abandonment application permits the pipeline to cease service and/or discontinue the operation of such facilities. Authorization under NGPA section 311(a) allows the interstate or intrastate pipeline applicants to render certain transportation services. The Commission implements the filing requirements in the Code of Regulations (CFR) under 18 CFR parts 157.5-.11; 157.13-.20; 157.22; 157.53; 157.201-.209; 157.211; 157.214-.218; 284.8; 284.11; 284.126; 284.221; 284.223-.224; 284.227.

5. Respondent Description: The respondent universe currently comprises 76 companies (on average per year) subject to the Commission's jurisdiction.

6. Estimated Burden: 210,234 total hours, 76 respondents (average per year), 10.2 responses per respondent, and 271.2 hours per response (average).

7. Estimated Cost Burden to respondents: 210,234 hours / 2080 hours per years × $107,185 per year = $11,829,807. The cost per respondent is equal to $155.655.

Statutory Authority: Section 311 Natural Gas Policy Act of 1978 (NGPA), 15 U.S.C. 33301-3432, and the Natural Gas Act (NGA) 15 U.S.C. 717-717w.

Linda Mitry,
Acting Secretary.

[FR Doc. E4-309 Filed 2-17-04; 8:45 am]

BILLING CODE 6717-01-P